DEPARTMENT OF TRANSPORTATION

Office of the Secretary

[Docket No. FAA-2021-0491]

Privacy Act of 1974; System of Records

AGENCY: Office of the Departmental Chief Information Office, Office of the Secretary of Transportation, DOT.

ACTION: Rescindment of a system of records notice.

SUMMARY: The Federal Aviation Administration proposes to rescind the Department of Transportation system of records titled, “Department of Transportation/Federal Aviation Administration (DOT/FAA) 851 Administration and Compliance Tracking in an Integrated Office Network System of Records”.

DATES: Applicable date: June 17, 2021.

ADDRESSES: You may submit comments, identified by docket number FAA-2021-0491 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251. Instructions: You must include the agency name and docket number FAA-2021-0491. All comments received will be posted without change to http://www.regulations.gov, including any personal information provided.

Privacy Act: Anyone is able to search the electronic form of all comments received in any of our dockets by the name of the individual submitting the comment (or signing the comment, if submitted on behalf of an association, business, labor union, etc.). You may review the DOT's complete Privacy Act statement in the Federal Register published on April 11, 2000 (65 FR 19477-78).

Docket: For access to the docket to read background documents or comments received, go to http://www.regulations.gov or to the street address listed above. Follow the online instructions for accessing the docket.

FOR FURTHER INFORMATION CONTACT: For general questions, please contact: Barbara Stance, FAA Chief Privacy Officer, 202.267.1403, Federal Aviation Administration, 950 L'Enfant Plaza SW, Washington, DC 20024. For privacy issues, please contact: Karyn Gorman, Acting Departmental Chief Privacy Officer, Privacy Office, Department of Transportation, Washington, DC 20590; privacy@dot.gov; or 202.527.3284.

SUPPLEMENTARY INFORMATION:

I. Background

In accordance with the Privacy Act of 1974, 5 U.S.C. 552a, the Department of Transportation (DOT)/Federal Aviation Administration (FAA) proposes to rescind DOT system of records titled, “Department of Transportation/Federal Aviation Administration (DOT/FAA) 851 Administration and Compliance Tracking in an Integrated Office Network System of Records,” 65 FR 19529 (April 11, 2000). This system of records was established to support the information resource, reporting and archival needs of the Drug Abatement Division. The categories of records included name, company and phone numbers of program managers in the daily operation of drug and alcohol testing programs for aviation companies. The authority for maintenance of the system was the Omnibus Transportation Employee Testing Act of 1991 (49 U.S.C. 45101-45106), 14 CFR part 61, et al. A biennial review of FAA systems of records determined that DOT/FAA 851 records and routine uses were subsumed into the DOT/FAA 847 Aviation Records on Individuals, 75 FR 68849 November 9, 2010). Consequently, rescinding SORN 851 will have no adverse impact on individuals. Rescindment will promote the overall streamlining and management of DOT Privacy Act systems of records.

SYSTEM NAME AND NUMBER:

Department of Transportation/Federal Aviation Administration (DOT/FAA) 851 Administration and Compliance Tracking in an Integrated Office Network.

HISTORY:

A full notice of this system of records, DOT/FAA 851 Administration and Compliance Tracking in an Integrated Office Network was published in the Federal Register on April 11, 2000, at 65 FR 19529.

Issued in Washington, DC, on June 17, 2021.
Karyn Gorman,
Acting, Departmental Chief Privacy Officer.

[FR Doc. 2021-12661 Filed 6-16-21; 8:45 am]

BILLING CODE 4910-9X-P